DEPARTMENT OF DEFENSE

Office of the Secretary

Revised Non-Foreign Overseas Per Diem Rates

AGENCY: Defense Human Resources Activity, Department of Defense (DoD).

ACTION: Notice of revised per diem rates in non-foreign areas outside the continental U.S.

SUMMARY: Defense Human Resources Activity publishes this Civilian Personnel Per Diem Bulletin Number 330. Bulletin Number 330 lists current per diem rates prescribed for reimbursement of subsistence expenses while on official Government travel to Alaska, Hawaii, the Commonwealth of Puerto Rico, and the possessions of the United States (U.S.). The Calendar Year (CY) 2025 lodging and meal rate review for Alaska resulted in rate changes for multiple locations.

DATES: The updated rates take effect January 1, 2026.

FOR FURTHER INFORMATION CONTACT: Holly Korcel, 571-372-1300, holly.n.korcel.civ@mail.mil.

SUPPLEMENTARY INFORMATION: This document notifies the public of revisions in per diem rates prescribed by the Per Diem, Travel, and Transportation Allowance Committee for travel to non-foreign areas outside the continental United States. The CY 2025 lodging and meal rate review for Alaska resulted in lodging rate increases for multiple locations. Bulletin Number 330 is published in the Federal Register to ensure that Government travelers outside the DoD are notified of revisions to the current reimbursement rates.

If you believe the lodging, meal or incidental allowance rate for a locality listed in the following table is insufficient, you may request a rate review for that location. For more information about how to request a review, please see the Defense Travel Management Office's Per Diem Rate Review Frequently Asked Questions (FAQ) page at https://www.travel.dod.mil/Travel-Transportation-Rates/Per-Diem/.

Dated: December 23, 2025.
Stephanie J. Bost,
Alternate OSD Federal Register Liaison Officer, Department of Defense.

State or territory | Locality | Season start | Season end | Lodging | M&IE | Total per diem | Effective date
ALASKA | [OTHER] | 01/01 | 12/31 | 239 | 143 | 382 | 01/01/2026
ALASKA | ADAK | 01/01 | 12/31 | 239 | 143 | 382 | 01/01/2026
ALASKA | ANCHORAGE | 04/01 | 09/30 | 329 | 148 | 477 | 01/01/2026
ALASKA | ANCHORAGE | 10/01 | 03/31 | 239 | 148 | 387 | 01/01/2026
ALASKA | BARROW | 05/01 | 08/31 | 301 | 143 | 444 | 01/01/2026
ALASKA | BARROW | 09/01 | 04/30 | 266 | 143 | 409 | 01/01/2026
ALASKA | BARTER ISLAND LRRS | 01/01 | 12/31 | 239 | 143 | 382 | 01/01/2026
ALASKA | BETHEL | 01/01 | 12/31 | 239 | 143 | 382 | 01/02/2026
ALASKA | BETTLES | 01/01 | 12/31 | 239 | 143 | * 382 | 01/01/2026
ALASKA | CAPE LISBURNE LRRS | 01/01 | 12/31 | 239 | 143 | 382 | 01/01/2026
ALASKA | CAPE NEWENHAM LRRS | 01/01 | 12/31 | 239 | 143 | 382 | 01/01/2026
ALASKA | CAPE ROMANZOF LRRS | 01/01 | 12/31 | 239 | 143 | 382 | 01/01/2026
ALASKA | CLEAR AB | 01/01 | 12/31 | 239 | 143 | 382 | 01/01/2026
ALASKA | COLD BAY | 01/01 | 12/31 | 239 | 143 | 382 | 01/01/2026
ALASKA | COLD BAY LRRS | 01/01 | 12/31 | 239 | 143 | 382 | 01/01/2026
ALASKA | COLDFOOT | 01/01 | 12/31 | 249 | 143 | 392 | 01/01/2026
ALASKA | COPPER CENTER | 01/01 | 12/31 | 239 | 143 | 382 | 01/01/2026
ALASKA | CORDOVA | 01/01 | 12/31 | 239 | 143 | 382 | 01/01/2026
ALASKA | CRAIG | 05/01 | 09/30 | 275 | 143 | 418 | 01/01/2026
ALASKA | CRAIG | 10/01 | 04/30 | 199 | 143 | 342 | 01/01/2026
ALASKA | DEADHORSE | 01/01 | 12/31 | 239 | 143 | * 382 | 01/01/2026
ALASKA | DELTA JUNCTION | 01/01 | 12/31 | 239 | 143 | 382 | 01/01/2026
ALASKA | DENALI NATIONAL PARK | 05/01 | 09/30 | 275 | 143 | 418 | 01/01/2026
ALASKA | DENALI NATIONAL PARK | 10/01 | 04/30 | 199 | 143 | 342 | 01/01/2026
ALASKA | DILLINGHAM | 01/01 | 12/31 | 320 | 143 | 463 | 01/01/2026
ALASKA | DUTCH HARBOR-UNALASKA | 01/01 | 12/31 | 239 | 143 | 382 | 01/01/2026
ALASKA | EARECKSON AIR STATION | 01/01 | 12/31 | 146 | 74 | 220 | 01/01/2026
ALASKA | EIELSON AFB | 05/16 | 09/30 | 275 | 143 | 418 | 01/01/2026
ALASKA | EIELSON AFB | 10/01 | 05/15 | 199 | 143 | 342 | 01/01/2026
ALASKA | ELFIN COVE | 01/01 | 12/31 | 239 | 143 | 382 | 01/01/2026
ALASKA | ELMENDORF AFB | 04/01 | 09/30 | 329 | 148 | 477 | 01/01/2026
ALASKA | ELMENDORF AFB | 10/01 | 03/31 | 239 | 148 | 387 | 01/01/2026
ALASKA | FAIRBANKS | 04/16 | 11/30 | 279 | 133 | 412 | 01/01/2026
ALASKA | FAIRBANKS | 12/01 | 04/15 | 199 | 133 | 332 | 01/01/2026
ALASKA | FORT YUKON LRRS | 01/01 | 12/31 | 239 | 143 | 382 | 01/01/2026
ALASKA | FT. GREELY | 01/01 | 12/31 | 239 | 143 | 382 | 01/01/2026
ALASKA | FT. RICHARDSON | 04/01 | 09/30 | 329 | 148 | 477 | 01/01/2026
ALASKA | FT. RICHARDSON | 10/01 | 03/31 | 239 | 148 | 387 | 01/01/2026
ALASKA | FT. WAINWRIGHT | 04/16 | 11/30 | 279 | 133 | 412 | 01/01/2026
ALASKA | FT. WAINWRIGHT | 12/01 | 04/15 | 199 | 133 | 332 | 01/01/2026
ALASKA | GAMBELL | 01/01 | 12/31 | 239 | 143 | 382 | 01/01/2026
ALASKA | GLENNALLEN | 01/01 | 12/31 | 239 | 143 | 382 | 01/01/2026
ALASKA | HAINES | 01/01 | 12/31 | 239 | 143 | 382 | 01/01/2026
ALASKA | HEALY | 05/01 | 09/30 | 275 | 143 | 418 | 01/01/2026
ALASKA | HEALY | 10/01 | 04/30 | 199 | 143 | 342 | 01/01/2026
ALASKA | HOMER | 05/01 | 09/30 | 275 | 143 | 418 | 01/01/2026
ALASKA | HOMER | 10/01 | 04/30 | 199 | 143 | 342 | 01/01/2026
ALASKA | JB ELMENDORF-RICHARDSON | 04/01 | 09/30 | 329 | 148 | 477 | 01/01/2026
ALASKA | JB ELMENDORF-RICHARDSON | 10/01 | 03/31 | 239 | 148 | 387 | 01/01/2026
ALASKA | JUNEAU | 02/01 | 10/31 | 274 | 143 | 417 | 01/01/2026
ALASKA | JUNEAU | 11/01 | 01/31 | 239 | 143 | 382 | 01/01/2026
ALASKA | KAKTOVIK | 01/01 | 12/31 | 239 | 143 | * 382 | 01/01/2026
ALASKA | KAVIK CAMP | 01/01 | 12/31 | 239 | 143 | * 382 | 01/01/2026
ALASKA | KENAI-SOLDOTNA | 05/01 | 10/31 | 275 | 143 | 418 | 01/01/2026
ALASKA | KENAI-SOLDOTNA | 11/01 | 04/30 | 199 | 143 | 342 | 01/01/2026
ALASKA | KENNICOTT | 01/01 | 12/31 | 239 | 143 | 382 | 01/01/2026
ALASKA | KETCHIKAN | 05/01 | 09/30 | 275 | 143 | 418 | 01/01/2026
ALASKA | KETCHIKAN | 10/01 | 04/30 | 188 | 143 | 331 | 01/01/2026
ALASKA | KING SALMON | 01/01 | 12/31 | 239 | 143 | 382 | 01/01/2026
ALASKA | KING SALMON LRRS | 01/01 | 12/31 | 239 | 143 | 382 | 01/01/2026
ALASKA | KLAWOCK | 01/01 | 12/31 | 239 | 143 | 382 | 01/01/2026
ALASKA | KODIAK | 05/01 | 11/30 | 231 | 139 | 370 | 01/01/2026
ALASKA | KODIAK | 12/01 | 04/30 | 145 | 139 | 284 | 01/01/2026
ALASKA | KOTZEBUE | 01/01 | 12/31 | 239 | 143 | 382 | 01/01/2026
ALASKA | KULIS AGS | 04/01 | 09/30 | 329 | 148 | 477 | 01/01/2026
ALASKA | KULIS AGS | 10/01 | 03/31 | 239 | 148 | 387 | 01/01/2026
ALASKA | MCCARTHY | 01/01 | 12/31 | 239 | 143 | 382 | 01/01/2026
ALASKA | MCGRATH | 01/01 | 12/31 | 239 | 143 | * 382 | 01/01/2026
ALASKA | MURPHY DOME | 04/16 | 11/30 | 279 | 133 | 412 | 01/01/2026
ALASKA | MURPHY DOME | 12/01 | 04/15 | 199 | 133 | 332 | 01/01/2026
ALASKA | NOME | 05/01 | 08/31 | 275 | 143 | 418 | 01/01/2026
ALASKA | NOME | 09/01 | 04/30 | 242 | 143 | 385 | 01/01/2026
ALASKA | NOSC ANCHORAGE | 04/01 | 09/30 | 329 | 148 | 477 | 01/01/2026
ALASKA | NOSC ANCHORAGE | 10/01 | 03/31 | 239 | 148 | 387 | 01/01/2026
ALASKA | NUIQSUT | 01/01 | 12/31 | 239 | 143 | * 382 | 01/01/2026
ALASKA | OLIKTOK LRRS | 01/01 | 12/31 | 239 | 143 | 382 | 01/01/2026
ALASKA | PALMER | 05/01 | 09/30 | 275 | 143 | 418 | 01/01/2026
ALASKA | PALMER | 10/01 | 04/30 | 199 | 143 | 342 | 01/01/2026
ALASKA | PETERSBURG | 01/01 | 12/31 | 239 | 143 | 382 | 01/01/2026
ALASKA | POINT BARROW LRRS | 01/01 | 12/31 | 239 | 143 | 382 | 01/01/2026
ALASKA | POINT HOPE | 01/01 | 12/31 | 239 | 143 | * 382 | 01/01/2026
ALASKA | POINT LONELY LRRS | 01/01 | 12/31 | 239 | 143 | 382 | 01/01/2026
ALASKA | PORT ALEXANDER | 01/01 | 12/31 | 239 | 143 | * 382 | 01/01/2026
ALASKA | PORT ALSWORTH | 01/01 | 12/31 | 239 | 143 | 382 | 01/01/2026
ALASKA | PRUDHOE BAY | 01/01 | 12/31 | 239 | 143 | * 382 | 01/01/2026
ALASKA | SELDOVIA | 05/01 | 09/30 | 275 | 143 | 418 | 01/01/2026
ALASKA | SELDOVIA | 10/01 | 04/30 | 199 | 143 | 342 | 01/01/2026
ALASKA | SEWARD | 04/01 | 09/30 | 284 | 189 | 473 | 01/01/2026
ALASKA | SEWARD | 10/01 | 03/31 | 199 | 189 | 388 | 01/01/2026
ALASKA | SITKA-MT. EDGECUMBE | 05/01 | 09/30 | 275 | 143 | 418 | 01/01/2026
ALASKA | SITKA-MT. EDGECUMBE | 10/01 | 04/30 | 199 | 143 | 342 | 01/01/2026
ALASKA | SKAGWAY | 05/01 | 09/30 | 275 | 143 | 418 | 01/01/2026
ALASKA | SKAGWAY | 10/01 | 04/30 | 199 | 143 | 342 | 01/01/2026
ALASKA | SLANA | 01/01 | 12/31 | 239 | 143 | 382 | 01/01/2026
ALASKA | SPARREVOHN LRRS | 01/01 | 12/31 | 239 | 143 | 382 | 01/01/2026
ALASKA | SPRUCE CAPE | 03/01 | 09/30 | 275 | 143 | 418 | 01/01/2026
ALASKA | SPRUCE CAPE | 10/01 | 02/28 | 199 | 143 | 342 | 01/01/2026
ALASKA | ST. GEORGE | 01/01 | 12/31 | 239 | 143 | 382 | 01/01/2026
ALASKA | TALKEETNA | 01/01 | 12/31 | 239 | 148 | 387 | 01/01/2026
ALASKA | TANANA | 05/01 | 08/31 | 275 | 143 | 418 | 01/01/2026
ALASKA | TANANA | 09/01 | 04/30 | 242 | 143 | 385 | 01/01/2026
ALASKA | TATALINA LRRS | 01/01 | 12/31 | 239 | 143 | 382 | 01/01/2026
ALASKA | TIN CITY LRRS | 01/01 | 12/31 | 239 | 143 | 382 | 01/01/2026
ALASKA | TOK | 01/01 | 12/31 | 239 | 143 | 382 | 01/01/2026
ALASKA | VALDEZ | 05/16 | 09/15 | 275 | 143 | 418 | 01/01/2026
ALASKA | VALDEZ | 09/16 | 05/15 | 199 | 143 | 342 | 01/01/2026
ALASKA | WAINWRIGHT | 01/01 | 12/31 | 295 | 143 | 438 | 01/01/2026
ALASKA | WASILLA | 06/01 | 09/30 | 275 | 129 | 404 | 01/01/2026
ALASKA | WASILLA | 10/01 | 05/31 | 199 | 129 | 328 | 01/01/2026
ALASKA | WRANGELL | 05/01 | 09/30 | 275 | 143 | 418 | 01/01/2026
ALASKA | WRANGELL | 10/01 | 04/30 | 188 | 143 | 331 | 01/01/2026
ALASKA | YAKUTAT | 06/01 | 09/30 | 350 | 143 | 493 | 01/01/2026
ALASKA | YAKUTAT | 10/01 | 05/31 | 199 | 143 | 342 | 01/01/2026
AMERICAN SAMOA | AMERICAN SAMOA | 01/01 | 12/31 | 149 | 103 | 252 | 05/01/2023
AMERICAN SAMOA | PAGO PAGO | 01/01 | 12/31 | 149 | 103 | 252 | 05/01/2023
GUAM | GUAM (INCL ALL MIL INSTAL) | 01/01 | 12/31 | 179 | 124 | 303 | 03/01/2025
GUAM | JOINT REGION MARIANAS (ANDERSEN) | 01/01 | 12/31 | 179 | 124 | 303 | 03/01/2025
GUAM | JOINT REGION MARIANAS (NAVAL BASE) | 01/01 | 12/31 | 179 | 124 | 303 | 03/01/2025
GUAM | TAMUNING | 01/01 | 12/31 | 179 | 124 | 303 | 03/01/2025
HAWAII | [OTHER] | 01/01 | 12/31 | 242 | 163 | 405 | 10/01/2025
HAWAII | CAMP H M SMITH | 01/01 | 12/31 | 202 | 163 | 365 | 10/01/2025
HAWAII | CNI NAVMAG PEARL HARBOR- HICKAM | 01/01 | 12/31 | 202 | 163 | 365 | 10/01/2025
HAWAII | FT. DERUSSEY | 01/01 | 12/31 | 202 | 163 | 365 | 10/01/2025
HAWAII | FT. SHAFTER | 01/01 | 12/31 | 202 | 163 | 365 | 10/01/2025
HAWAII | HICKAM AFB | 01/01 | 12/31 | 202 | 163 | 365 | 10/01/2025
HAWAII | HONOLULU | 01/01 | 12/31 | 202 | 163 | 365 | 10/01/2025
HAWAII | ISLE OF HAWAII: HILO | 01/01 | 12/31 | 199 | 146 | 345 | 10/01/2025
HAWAII | ISLE OF HAWAII: LOCATIONS OTHER THAN HILO | 01/01 | 12/31 | 242 | 180 | 422 | 10/01/2025
HAWAII | ISLE OF KAUAI | 01/01 | 12/31 | 350 | 165 | 515 | 10/01/2025
HAWAII | ISLE OF LANAI | 01/01 | 12/31 | 242 | 163 | 405 | 10/01/2025
HAWAII | ISLE OF MAUI | 01/01 | 12/31 | 354 | 153 | 507 | 10/01/2025
HAWAII | ISLE OF MOLOKAI | 01/01 | 12/31 | 242 | 163 | 405 | 10/01/2025
HAWAII | ISLE OF OAHU | 01/01 | 12/31 | 202 | 163 | 365 | 10/01/2025
HAWAII | JB PEARL HARBOR-HICKAM | 01/01 | 12/31 | 202 | 163 | 365 | 10/01/2025
HAWAII | KAPOLEI | 01/01 | 12/31 | 202 | 163 | 365 | 10/01/2025
HAWAII | KEKAHA PACIFIC MISSILE RANGE FAC | 01/01 | 12/31 | 350 | 165 | 515 | 10/01/2025
HAWAII | KILAUEA MILITARY CAMP | 01/01 | 12/31 | 199 | 146 | 345 | 10/01/2025
HAWAII | LIHUE | 01/01 | 12/31 | 350 | 165 | 515 | 10/01/2025
HAWAII | MCB HAWAII | 01/01 | 12/31 | 202 | 163 | 365 | 10/01/2025
HAWAII | NCTAMS PAC WAHIAWA | 01/01 | 12/31 | 202 | 163 | 365 | 10/01/2025
HAWAII | NOSC PEARL HARBOR | 01/01 | 12/31 | 202 | 163 | 365 | 10/01/2025
HAWAII | PEARL HARBOR | 01/01 | 12/31 | 202 | 163 | 365 | 10/01/2025
HAWAII | PMRF BARKING SANDS | 01/01 | 12/31 | 350 | 165 | 515 | 10/01/2025
HAWAII | SCHOFIELD BARRACKS | 01/01 | 12/31 | 202 | 163 | 365 | 10/01/2025
HAWAII | TRIPLER ARMY MEDICAL CENTER | 01/01 | 12/31 | 202 | 163 | 365 | 10/01/2025
HAWAII | WHEELER ARMY AIRFIELD | 01/01 | 12/31 | 202 | 163 | 365 | 10/01/2025
MIDWAY ISLANDS | MIDWAY ISLANDS | 01/01 | 12/31 | 125 | 81 | 206 | 05/01/2023
NORTHERN MARIANA ISLANDS | ROTA | 01/01 | 12/31 | 161 | 125 | 286 | 03/01/2025
NORTHERN MARIANA ISLANDS | SAIPAN | 01/01 | 12/31 | 161 | 113 | 274 | 05/01/2023
NORTHERN MARIANA ISLANDS | TINIAN | 01/01 | 12/31 | 161 | 95 | 256 | 03/01/2025
PUERTO RICO | [OTHER] | 01/01 | 12/31 | 183 | 116 | 299 | 06/01/2024
PUERTO RICO | AGUADILLA | 01/01 | 12/31 | 149 | 97 | 246 | 06/01/2024
PUERTO RICO | BAYAMON | 12/01 | 06/30 | 245 | 148 | 393 | 06/01/2024
PUERTO RICO | BAYAMON | 07/01 | 11/30 | 217 | 148 | 365 | 06/01/2024
PUERTO RICO | CAROLINA | 12/01 | 06/30 | 245 | 148 | 393 | 06/01/2024
PUERTO RICO | CAROLINA | 07/01 | 11/30 | 217 | 148 | 365 | 06/01/2024
PUERTO RICO | CEIBA | 01/01 | 12/31 | 183 | 110 | 293 | 06/01/2024
PUERTO RICO | CULEBRA | 01/01 | 12/31 | 183 | 116 | 299 | 06/01/2024
PUERTO RICO | FAJARDO [INCL ROOSEVELT RDS NAVSTAT] | 01/01 | 12/31 | 183 | 110 | 293 | 06/01/2024
PUERTO RICO | FT. BUCHANAN [INCL GSA SVC CTR, GUAYNABO] | 12/01 | 06/30 | 245 | 148 | 393 | 06/01/2024
PUERTO RICO | FT. BUCHANAN [INCL GSA SVC CTR, GUAYNABO] | 07/01 | 11/30 | 217 | 148 | 365 | 06/01/2024
PUERTO RICO | HUMACAO | 01/01 | 12/31 | 183 | 110 | 293 | 06/01/2024
PUERTO RICO | LUIS MUNOZ MARIN IAP AGS | 12/01 | 06/30 | 245 | 148 | 393 | 06/01/2024
PUERTO RICO | LUIS MUNOZ MARIN IAP AGS | 07/01 | 11/30 | 217 | 148 | 365 | 06/01/2024
PUERTO RICO | LUQUILLO | 01/01 | 12/31 | 183 | 110 | 293 | 06/01/2024
PUERTO RICO | MAYAGUEZ | 01/01 | 12/31 | 129 | 116 | 245 | 06/01/2024
PUERTO RICO | PONCE | 01/01 | 12/31 | 149 | 146 | 295 | 06/01/2024
PUERTO RICO | RIO GRANDE | 01/01 | 12/31 | 219 | 97 | 316 | 06/01/2024
PUERTO RICO | SABANA SECA [INCL ALL MILITARY] | 12/01 | 06/30 | 245 | 148 | 393 | 06/01/2024
PUERTO RICO | SABANA SECA [INCL ALL MILITARY] | 07/01 | 11/30 | 217 | 148 | 365 | 06/01/2024
PUERTO RICO | SAN JUAN & NAV RES STA | 12/01 | 06/30 | 245 | 148 | 393 | 06/01/2024
PUERTO RICO | SAN JUAN & NAV RES STA | 07/01 | 11/30 | 217 | 148 | 365 | 06/01/2024
PUERTO RICO | VIEQUES | 01/01 | 12/31 | 183 | 125 | 308 | 06/01/2024
VIRGIN ISLANDS (U.S.) | ST. CROIX | 07/01 | 10/31 | 247 | 115 | 362 | 10/01/2024
VIRGIN ISLANDS (U.S.) | ST. CROIX | 11/01 | 06/30 | 299 | 115 | 414 | 10/01/2024
VIRGIN ISLANDS (U.S.) | ST. JOHN | 04/15 | 12/15 | 324 | 150 | 474 | 10/01/2024
VIRGIN ISLANDS (U.S.) | ST. JOHN | 12/16 | 04/14 | 414 | 150 | 564 | 10/01/2024
VIRGIN ISLANDS (U.S.) | ST. THOMAS | 04/15 | 12/15 | 324 | 150 | 474 | 10/01/2024
VIRGIN ISLANDS (U.S.) | ST. THOMAS | 12/16 | 04/14 | 414 | 150 | 564 | 10/01/2024
WAKE ISLAND | WAKE ISLAND | 01/01 | 12/31 | 136 | 78 | 214 | 03/01/2025
* Where meals are included in the lodging rate, a traveler is only allowed a meal rate on the first and last day of travel.

[FR Doc. 2025-24066 Filed 12-30-25; 8:45 am]

BILLING CODE 6001-FR-P